DEPARTMENT OF THE INTERIOR

Bureau of Land Management

[NV-060-5110-GN-CF20; NVN-067930: 8-08807; TAS: 14X5017]

Notice of Intent To Prepare a Supplemental Environmental Impact Statement for the Phoenix Copper Leach Project, Lander County, NV

AGENCY: Bureau of Land Management, Interior.

ACTION: Notice.

SUMMARY: Pursuant to Section 102(2)(C) of the National Environmental Policy Act (NEPA) of 1969, 40 CFR 1500-1508, and 43 CFR 3809, the Bureau of Land Management (BLM), Battle Mountain Field Office will prepare a Supplemental Environmental Impact Statement (SEIS) for the Phoenix Copper Leach Project located in Lander County, Nevada. The proposal includes expansion of the existing project boundary, construction and operation of a copper beneficiation facility, and development of new leaching facilities at the Phoenix Mine. This notice initiates the public scoping process and announces a public meeting.

DATES: Written comments on the scope of the SEIS will be accepted until March 13, 2008. A scoping meeting will be held on Wednesday, February 27, 2008 at the Battle Mountain Field Office from 6 p.m. to 8 p.m.

ADDRESSES: Written comments should be mailed to the BLM Battle Mountain Field Office, ATTN: Jon Sherve, 50 Bastian Road, Battle Mountain, NV 89820; faxed to ATTN: Jon Sherve at (775) 635-4034; or e-mailed to: phoenix_copper_SEIS@blm.gov.

FOR FURTHER INFORMATION: Christopher Worthington (775) 635-4144 or e-mail christopher_worthington@nv.blm.gov.

SUPPLEMENTARY INFORMATION: Newmont Mining Corporation (Newmont) has submitted an amended Plan of Operations (NVN-067930) to the BLM for the proposed mining project. A third-party contractor will prepare the SEIS under the direction of the BLM pursuant to Council on Environmental Quality regulations 1502.14(a) and 1502.14(d). In addition to the proposed action, the BLM will explore and objectively evaluate all reasonable alternatives, including the alternative of no action.

The proposed project area is located approximately 12 miles southwest of Battle Mountain, Nevada.

Mount Diablo Meridian, Nevada

T. 30 and 31 N., R. 43 E.

The Phoenix Mine is located in the Copper Canyon portion of the Battle Mountain Mining District in Lander County, Nevada. The current project area includes approximately 7,139 acres; 2,865 acres of public land and 4,275 acres privately owned by Newmont. Most of the facilities associated with this proposal will be located on lands previously approved for surface disturbance. This proposed plan would increase the project surface disturbance by approximately 910 acres (185 acres of public land and 725 acres of private land), and includes construction and operation of a new solvent extraction-electrowinning (SX-EW) facility, development of two copper leach facilities, construction of four new process ponds, development of a new clay borrow area, designation of an optional use area that would be used either as a waste rock facility, a tailings facility, copper or gold leach facility, and/or growth media borrow area, and construction of a new 120-kV power line. Construction and operation of the project is projected to begin in 2008. Active mining for the Phoenix Copper leach project will last about 15 years and will not increase the current life-of-mine for the Phoenix Mine.

An interdisciplinary approach will be used to develop the SEIS, in order to consider the variety of resource issues and concerns identified. Potential significant direct, indirect, residual, and cumulative impacts from the proposed action will be analyzed in the SEIS. Federal, state, and local agencies, as well as individuals or organizations that may be interested in or affected by the BLM's decision on this plan are invited to participate in the scoping process. Federal, state, and local agencies may request or be requested by the BLM to participate as a cooperating agency.

The plan will be presented to the public during a scoping meeting to be held Wednesday, February 27 from 6 p.m. to 8 p.m. at the Battle Mountain Field Office. The plan will be available for public review at Battle Mountain Field Office. The BLM invites public comment on the scope of the analysis, including issues to consider and alternatives to the proposed action. The purpose of the public scoping process is to determine relevant issues that will influence the scope of the environmental analysis and SEIS alternatives. BLM personnel will be present at the scoping meeting to explain the environmental review process, the mining regulations, and other requirements for processing the proposed plan amendment and the associated SEIS. Representatives of Newmont will be available to describe the proposal.

You may submit comments on issues in writing to the BLM at the public scoping meeting or you may submit them to the BLM using one of the methods listed in the ADDRESSES section above. Comments received and a list of attendees at the scoping meeting will be available for public inspection.

Comments and documents pertinent to this proposal, including names and addresses of respondents, may be viewed at the Battle Mountain Field Office during regular business hours (7:30 a.m.-4:30 p.m., Monday through Friday, except holidays).

Comments may be published as part of the SEIS. Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

(Authority: 43 CFR part 3809)

Dated: January 29, 2008.
Gerald M. Smith,
Field Manager, Battle Mountain Field Office.

[FR Doc. E8-2539 Filed 2-11-08; 8:45 am]

BILLING CODE 4310-HC-P